SUSQUEHANNA RIVER BASIN COMMISSION

Commission Meeting

AGENCY: Susquehanna River Basin Commission.

ACTION: Notice.

SUMMARY: The Susquehanna River Basin Commission will hold its regular business meeting on September 4, 2014, in Corning, New York. Details concerning the matters to be addressed at the business meeting are contained in the Supplementary Information section of this notice.

DATES: September 4, 2014, at 8:30 a.m.

ADDRESSES: Radisson Hotel Corning, Finger Lakes Ballroom, 125 Denison Parkway East, Corning, NY 14830.

FOR FURTHER INFORMATION CONTACT: Jason Oyler, Regulatory Counsel, telephone: (717) 238-0423, ext. 1312; fax: (717) 238-2436.

SUPPLEMENTARY INFORMATION: The business meeting will include actions or presentations on the following items: (1) Informational presentation of interest to the Corning area; (2) release of proposed rulemaking for public comment; (3) rescission of unneeded or outdated policies; (4) ratification/approval of contracts/grants; (5) regulatory compliance matters for Carrizo (Marcellus), LLC; JKT Golf LLC; and Southwestern Energy Production Company; and (6) Regulatory Program projects. Projects listed for Commission action are those that were the subject of a public hearing conducted by the Commission on August 7, 2014, and identified in the notice for such hearing, which was published in 79 FR 40188, July 11, 2014.

Opportunity To Appear and Comment

Interested parties are invited to attend the business meeting and encouraged to review the Commission's Public Meeting Rules of Conduct, which are posted on the Commission's Web site, www.srbc.net. As identified in the public hearing notice referenced above, written comments on the Regulatory Program projects that were the subject of the public hearing, and are listed for action at the business meeting, are subject to a comment deadline of August 18, 2014. Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before August 29, 2014, to be considered.

Authority: Pub. L. 91-575, 84 Stat. 1509 et seq., 18 CFR Parts 806, 807, and 808.

Dated: July 31, 2014.
Stephanie L. Richardson,
Secretary to the Commission.

[FR Doc. 2014-18666 Filed 8-6-14; 8:45 am]

BILLING CODE 7040-01-P